DEPARTMENT OF ENERGY

Federal Energy Regulatory Commission

[Docket No. EC01-105-000]

Upper Peninsula Power Company, American Transmission Company, LLC; Notice of Filing

June 6, 2001.

Take notice that on May 25, 2001, Upper Peninsula Power Company (UPPCO) and American Transmission Company LLC (ATCLLC) filed an application pursuant to Section 203 of the Federal Power Act for authorization of a disposition of jurisdictional facilities whereby (i) UPPCO will transfer its transmission assets to ATCLLC in exchange for member Units, which are equity interests in ATCLLC; (ii) an UPPCO affiliate will receive and hold the ATCLLC Member Units and (iii) Wisconsin Public Service Corporation or another UPPCO affiliate will acquire ownership shares in ATCLLC's corporate manager. UPPCO also requests authorization to transfer certain indemnification and hold harmless obligations to ATCLLC pursuant to the terms of the settlement agreement accepted by the Commission on May 8, 2001 in Docket Nos. ER01-123-000, et al.

UPPCO and ATCLLC have requested that the Commission authorize this application no later than June 25, 2001, so that they may close on the facility transfer on June 29, 2001, in order to prevent partial income taxation on UPPCO's contribution of transmission assets that will result if the transaction were to close more than 90 days after ATCLLC's receipt of debt financing, which occurred on April 2, 2001.

A copy has been served on the member owners of ATCLLC, transmission-dependent utilities located within UPPCO's service area, Ameren Corporation, Illinois Power Company, Commonwealth Edison Company, the public service commissions of Michigan and Wisconsin and other interested parties.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before June 18, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14709 Filed 6-11-01; 8:45 am]

BILLING CODE 6717-01-M